DEPARTMENT OF HEALTH AND HUMAN SERVICES

Centers for Medicare & Medicaid Services

[Document Identifier: CMS-10532]

Agency Information Collection Activities: Submission for OMB Review; Comment Request

ACTION: Notice.

SUMMARY: The Centers for Medicare & Medicaid Services (CMS) is announcing an opportunity for the public to comment on CMS' intention to collect information from the public. Under the Paperwork Reduction Act of 1995 (PRA), federal agencies are required to publish notice in the Federal Register concerning each proposed collection of information, including each proposed extension or reinstatement of an existing collection of information, and to allow a second opportunity for public comment on the notice. Interested persons are invited to send comments regarding the burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

DATES: Comments on the collection(s) of information must be received by the OMB desk officer by February 4, 2015.

ADDRESSES: When commenting on the proposed information collections, please reference the document identifier or OMB control number. To be assured consideration, comments and recommendations must be received by the OMB desk officer via one of the following transmissions: OMB, Office of Information and Regulatory Affairs, Attention: CMS Desk Officer, Fax Number: (202) 395-5806 or Email: OIRA_submission@omb.eop.gov.

To obtain copies of a supporting statement and any related forms for the proposed collection(s) summarized in this notice, you may make your request using one of following:

1. Access CMS' Web site address at http://www.cms.hhs.gov/PaperworkReductionActof1995.

2. Email your request, including your address, phone number, OMB number, and CMS document identifier, to Paperwork@cms.hhs.gov.

3. Call the Reports Clearance Office at (410) 786-1326.

FOR FURTHER INFORMATION CONTACT: Reports Clearance Office at (410) 786-1326.

SUPPLEMENTARY INFORMATION: Under the Paperwork Reduction Act of 1995 (PRA) (44 U.S.C. 3501-3520), federal agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA (44 U.S.C. 3506(c)(2)(A)) requires federal agencies to publish a 30-day notice in the Federal Register concerning each proposed collection of information, including each proposed extension or reinstatement of an existing collection of information, before submitting the collection to OMB for approval. To comply with this requirement, CMS is publishing this notice that summarizes the following proposed collection(s) of information for public comment:

1. Type of Information Collection Request: New collection (Request for a new OMB control number); Title of Information Collection: Risk Corridors Transitional Policy; Use: Section 1342 of the Patient Protection and Affordable Care Act of 2010 (the Affordable Care Act) provides for the establishment of a temporary risk corridors program that will apply to qualified health plans in the individual and small group markets for the first three years of Exchange operation. The implementing regulations for this provision are located in Part 153 Title 45 of the Code of Federal Regulations (CFR). A final rule published on March 11, 2014 (79 FR 13834; CMS-9954-F) and is effective May 12, 2014. Under 45 CFR 153.530(e), each issuer conducting business in the individual and small group markets in states that adopted the transitional policy is required to submit enrollment data, including enrollment in transitional policies (i.e. individual or small group health insurance coverage in states that adopted the transitional policy announced in the Centers for Medicare and Medicaid (CMS) letter dated November 14, 2013), on the “Transitional Adjustment Reporting Form” prescribed by CMS, for each state in which the issuer conducts business.

The data collection will be used to amend the risk corridors program provisions in 45 CFR part 153 to mitigate any unexpected losses for issuers of plans subject to risk corridors that are attributable to the effects of this transitional policy. Specifically, we will use the data to calculate the risk corridors adjustment percentage, if any, in transitional states. Form Number: CMS-10532 (OMB control number: 0938-New); Frequency: Once; Affected Public: Private sector (business or other for-profits and not-for-profit institutions); Number of Respondents: 400; Number of Responses: 400; Total Annual Hours: 400. (For policy questions regarding this collection, contact Jaya Ghildiyal at (301) 492-5149.)

Dated: December 29, 2014.
Martique Jones,
Director, Regulations Development Group, Office of Strategic Operations and Regulatory Affairs.

[FR Doc. 2014-30800 Filed 1-2-15; 8:45 am]

BILLING CODE 4120-01-P